ENVIRONMENTAL PROTECTION AGENCY

[FRL-8976-6]

Clean Air Act Operating Permit Program; Petition for Objection to State Operating Permit for Kerr-McGee/Anadarko—Frederick Compressor Station

AGENCY: Environmental Protection Agency (EPA).

ACTION: Notice of final action.

SUMMARY: This document announces that the EPA Administrator has responded to a citizen petition asking EPA to object to an operating permit issued by the Colorado Department of Public Health and Environment (CDPHE). Specifically, the Administrator has granted the August 14, 2008 petition, submitted by Rocky Mountain Clean Air Action (Petitioner), to object to CDPHE's April 29, 2008 Addendum to the January 1, 2007 Technical Review Document in support of the renewal of the title V operating permit and to CDPHE's determination that “no changes to the [title V] permit” were warranted.

Pursuant to section 505(b)(2) of the Clean Air Act (Act), Petitioners may seek judicial review of those portions of the petitions, which EPA denied in the United States Court of Appeals for the appropriate circuit. Any petition for review shall be filed within 60 days from the date this notice appears in the Federal Register, pursuant to section 307 of the Act.

ADDRESSES: You may review copies of the final order, the petition, and other supporting information at the EPA Region 8 Office, 1595 Wynkoop Street, Denver, Colorado, 80202-1129. EPA requests that if at all possible, you contact the individual listed in the FOR FURTHER INFORMATION CONTACT section to view the copies of the final order, the petition, and other supporting information. You may view the hard copies Monday through Friday, 8 a.m. to 4 p.m., excluding Federal holidays. If you wish to examine these documents, you should make an appointment at least 24 hours before visiting day. Additionally, the final order for Kerr-McGee/Anadarko—Frederick Compressor Station, is available electronically at: http://www.epa.gov/region7/programs/artd/air/title5/petitiondb/petitions/anadarko_response2008.pdf.

FOR FURTHER INFORMATION CONTACT: Donald Law, Office of Partnerships and Regulatory Assistance, EPA, Region 8, 1595 Wynkoop Street, Denver, Colorado, 80202-1129, (303) 312-7015, law.donald@epa.gov.

SUPPLEMENTARY INFORMATION: The Act affords EPA a 45-day period to review, and object to as appropriate, a Title V operating permit proposed by State permitting authorities. Section 505(b)(2) of the Act authorizes any person to petition the EPA Administrator, within 60 days after the expiration of this review period, to object to a Title V operating permit if EPA has not done so. Petitions must be based only on objections to the permit that were raised with reasonable specificity during the public comment period provided by the State, unless the petitioner demonstrates that it was impracticable to raise these issues during the comment period or the grounds for the issues arose after this period.

On August 14, 2008, EPA received a petition from Rocky Mountain Clean Air Action requesting that EPA object to the issuance of the Title V operating permit to Kerr-McGee/Anadarko for the operation of the Frederick Compressor Station. First, the Petitioner asserts that natural gas wells owned or controlled by Kerr-McGee/Anadarko constitute pollutant emitting activities connected with the Frederick Compressor Station. Second, the Petitioner alleges the natural gas wells owned or controlled by Kerr-McGee/Anadarko constitute pollutant emitting activities that are contiguous or adjacent to the Frederick Compressor Station. Finally, the Petitioner argues that by CDPHE's failure to aggregate emissions from Kerr-McGee/Anadarko's interrelated and connected natural gas wells with the Frederick Compressor Station, CDPHE has issued a Title V permit that fails to assure compliance with Prevention of Significant Deterioration (PSD) requirements and without a required compliance schedule to bring the facility into compliance with PSD requirements and is in violation of title V permitting regulations at 40 CFR 70.

On October 8, 2009, the Administrator issued an order granting the petition. The order explains the reasons behind EPA's conclusion grant the petition for objection.

Dated: October 22, 2009.
Carol Rushin,
Acting Regional Administrator.

[FR Doc. E9-26339 Filed 10-30-09; 8:45 am]

BILLING CODE 6560-50-P